NATIONAL AERONAUTICS AND SPACE ADMINISTRATION

[Notice 03-136 ]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: November 4, 2003.

FOR FURTHER INFORMATION CONTACT: Edward K. Fein, Patent Counsel, Johnson Space Center, Mail Code HA, Houston, TX 77058-8452; telephone (281) 483-4871; fax (281) 244-8452.

NASA Case No. MSC-23193-1: Passive Tracking System And Method (This Is A Continuation);

NASA Case No. MSC-23193-3: Passive Tracking System And Method (This Is A CIP);

NASA Case No. MSC-23518-1: Solid Freeform Fabrication Apparatus And Method;

NASA Case No. MSC-23554-1: An Automated Glucose Control System And Uses Therefore.

Dated: October 29, 2003.
Robert M. Stephens,
Deputy General Counsel.

[FR Doc. 03-27679 Filed 11-3-03; 8:45 am]

BILLING CODE 7510-01-P